DEPARTMENT OF THE INTERIOR

National Park Service

[NPS-WASO-NAGPRA-20506; PPWOCRADN0-PCU00RP14.R50000]

Notice of Intent To Repatriate Cultural Items: Grand Rapids Public Museum, Grand Rapids, Michigan

AGENCY: National Park Service, Interior.

ACTION: Notice.

SUMMARY: The Grand Rapids Public Museum in consultation with the appropriate Indian tribes or Native Hawaiian organizations, has determined that the cultural items listed in this notice meet the definition of unassociated funerary objects. Lineal descendants or representatives of any Indian tribe or Native Hawaiian organization not identified in this notice that wish to claim these cultural items should submit a written request to the Grand Rapids Public Museum. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Grand Rapids Public Museum at the address in this notice by May 5, 2016.

ADDRESSES: Andrea Melvin, Collections Curator, Grand Rapids Public Museum, 272 Pearl Street NW., Grand Rapids, MI 49506, telephone (616) 929-1808, email amelvin@grpm.org.

SUPPLEMENTARY INFORMATION: Notice is here given in accordance with the Native American Graves Protection and Repatriation Act (NAGPRA), 25 U.S.C. 3005, of the intent to repatriate cultural items under the control of the Grand Rapids Public Museum, Grand Rapids, MI, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

On an unknown date, one unassociated funerary object was removed from a Native American grave in Umatilla County, OR. It was acquired by the Grand Rapids Public Museum from the Ruth Herrick Estate on September 10, 1974. The object is a string of 25 olivella shell beads together with an attached note from the collector stating, “from an Indian grave near Umatilla, Oregon on Columbia River.” Digital images of the object were reviewed by The Confederated Tribes of the Umatilla Indian Reservation's Preservation Department. It was determined that the beads were excavated from the burial area of the Imatalamláma (Umatilla) which was located on the Columbia River and at the mouth of the Umatilla River. As the human remains with which the beads were placed are not known to be in the possession or control of any Federal agency or museum, the beads are therefore unassociated funerary objects culturally affiliated with the Umatilla Tribes. During consultation, the Umatilla Tribes provided ethnographic, oral traditional, linguistic and archaeological evidence showing the beads were excavated within the ceded lands of the Umatilla.

On an unknown date, 3 unassociated funerary objects were removed from Walla Walla County, WA. They were acquired by the Grand Rapids Public Museum from the Ruth Herrick Estate on September 10, 1974. The objects are: One lot of 5 hawk claw pendants together with a note that describes where they were excavated: “Columbia River grave, Walla Walla Co. Washington;” a string of Old Hudson's Bay Fur Company beads that is comprised of 6 large round cobalt beads, 5½ large round red-on-yellow opaque beads, and 58 round opaque light-blue pony beads with a note stating: “Old Hudson Bay Fur -Co. Post, Indian Trade Beads, Fort Walla-Walla Washington;” and a string of 19 dark blue glass Hudson's Bay Company beads with a note stating: “Ft. Walla-Walla Washington.” Digital images of the objects were reviewed by The Confederated Tribes of the Umatilla Indian Reservation's Preservation Department. It was determined that the beads were excavated from the burial areas of the Weyíiletpuu, Imatalamláma and Walúulapam. As the human remains with which these objects were placed are not know to be in the possession or control of any Federal Agency or museum, they are unassociated funerary objects. During consultation, the Umatilla Tribes provided ethnographic, oral traditional, linguistic and archaeological evidence that the beads were excavated in the Walawála (Walla Walla) area alongside the Columbia River, that was the homeland of the Walúulapam and Weyíiletpuu People.

Determinations Made by the Grand Rapids Public Museum

Officials of the Grand Rapids Public Museum have determined that:

• Pursuant to 25 U.S.C. 3001(3)(B), the 4 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Confederated Tribes of the Umatilla Indian Reservation.

Additional Requestors and Disposition

Lineal descendants or representatives of any Indian tribe or Native Hawaiian organization not identified in this notice that wish to claim these cultural items should submit a written request with information in support of the claim to Andrea Melvin, Collections Curator, Grand Rapids Public Museum, 272 Pearl Street NW., Grand Rapids, MI 49506, telephone (616) 929-1808, email amelvin@grpm.org, by May 5, 2016. After that date, if no additional claimants have come forward, transfer of control of the unassociated funerary objects to the Confederated Tribes of the Umatilla Indian Reservation may proceed.

The Grand Rapids Public Museum is responsible for notifying the Confederated Tribes of the Umatilla Indian Reservation that this notice has been published.

Dated: March 3, 2016.
Melanie O'Brien,
Manager, National NAGPRA Program.

[FR Doc. 2016-07758 Filed 4-4-16; 8:45 am]

BILLING CODE 4312-50-P